DEPARTMENT OF AGRICULTURE

Rural Utilities Service

[Docket #: RUS-23-WATER-0009]

Notice of Funding Opportunity for Calendar Year 2022 Disaster Water Grants Program for Fiscal Year 2023; Water and Environmental Programs; Correction

AGENCY: Rural Utilities Service, USDA.

ACTION: Notice, correction.

SUMMARY: The Rural Utilities Service (RUS or Agency), a Rural Development (RD) mission area of the United States Department of Agriculture (USDA), published a Notice of Funding Opportunity (NOFO) in the Federal Register on June 22, 2023, to announce the acceptance of applications under the Calendar Year (CY) 2022 Disaster Water Grants Program for Fiscal Year (FY) 2023. The NOFO also announced the availability of at least $247,250,000 in grant funding through the Disaster Relief Supplemental Appropriations Act, 2023. Grant funds will be made available to qualified, rural applicants to pay for necessary expenses related to water infrastructure systems damaged by events that occurred during CY 2022 and were recognized through Presidentially Declared Disasters. This correction notice is amending the list of states that were identified as containing areas that have been impacted by qualifying events during CY 2022.

DATES: Applications will be accepted on a continual basis, beginning on June 22, 2023, until funds are exhausted. To comply with the Congressional Review Act, there is a 60-day delay in the effective date of this action, and the Agency will not take action on applications until the later of 60 days after notification to Congress or August 21, 2023.

FOR FURTHER INFORMATION CONTACT: Angela Tilghman, Water and Environmental Programs, RUS, USDA at Water-RD@usda.gov, (302) 857-3598.

SUPPLEMENTARY INFORMATION:

Correction

In FR Doc. 2023-13232 of June 22, 2023 (88 FR 40775), on page 40775, in column 3, under Section A.1, the third sentence that starts with “Subject to any updates,” is corrected to read as follows:

Subject to any updates to the Presidentially Declared Disasters, the following states have been identified as containing areas that have been impacted by qualifying events during CY 2022: Alaska, American Samoa, Arizona, California, Florida, Idaho, Illinois, Kansas, Kentucky, Maine, Massachusetts, Minnesota, Mississippi, Missouri, Montana, Nebraska, Nevada, New Hampshire, New Mexico, New York, North Carolina, North Dakota, Oklahoma, Oregon, Puerto Rico, Rhode Island, South Carolina, South Dakota, Tennessee, Texas, U.S. Virgin Islands, Vermont, Virginia, Washington, and West Virginia.

Jason Lumia,
Acting Administrator, Rural Utilities Services, USDA Rural Development.

[FR Doc. 2023-14679 Filed 7-11-23; 8:45 am]

BILLING CODE 3410-15-P